SECURITIES AND EXCHANGE COMMISSION

[SEC File No. 270-802, OMB Control No. 3235-0758]

Proposed Collection; Comment Request; Extension: Rule 30e-3

Upon Written Request, Copies Available From: Securities and Exchange Commission, Office of FOIA Services, 100 F Street NE, Washington, DC 20549-2736

Notice is hereby given that, pursuant to the Paperwork Reduction Act of 1995 (44 U.S.C. 3501 et seq.) (“Paperwork Reduction Act”), the Securities and Exchange Commission (the “Commission”) is soliciting comments on the collection of information summarized below. The Commission plans to submit this existing collection of information to the Office of Management and Budget (“OMB”) for extension and approval.

Section 30(e) of the Investment Company Act of 1940 (15 U.S.C. 80a-1 et seq.) (“Investment Company Act”) requires a registered investment company (“fund”) to transmit to its shareholders, at least semi-annually, reports containing financial statements and other financial information as the Commission may prescribe by rules and regulations. Rules 30e-1 (17 CFR 270.30e-1) and 30e-2 (17 CFR 270.30e-2) under the Investment Company Act require most funds to send their shareholders annual and semiannual reports containing financial information on the fund.

Rule 30e-3 (17 CFR 270.30e-3) under the Investment Company Act (15 U.S.C. 80a-1 et seq.) provides certain funds and unit investment trusts with an optional method to satisfy shareholder report transmission requirements by making such reports and certain other materials publicly accessible on a website, as long as they satisfy certain other conditions of the rule regarding: (a) Availability of the report and other materials; (b) notice to investors of the website availability of the report; and (c) delivery of paper copies of materials upon request. Reliance on the rule is voluntary. Responses to the disclosure requirements are not kept confidential.

The Commission estimates that 13,079 funds could rely on rule 30e-3. Of these funds, we estimate that 90% (or 11,771 funds) are currently relying on rule 30e-3. With respect to these 11,771 funds, we estimate that 90% (or 10,594 funds) already post shareholder reports on their websites for other purposes. In total, rule 30e 3 will impose an average total annual hour burden of 24,719 hours on applicable funds. Based on the Commission's estimate of 24,719 hours and an estimated wage rate of about $362 per hour, the total annual cost to registrants of the hour burden for complying with rule 30 3 is about $8.9 million.

Estimates of average burden hours are made solely for the purposes of the Paperwork Reduction Act and are not derived from a comprehensive or even representative survey or study of the costs of Commission rules and forms. The collection of information under rule 30e-3 is mandatory. The information provided under rule 30e-3 will not be kept confidential. An agency may not conduct or sponsor, and a person is not required to respond to, a collection of information unless it displays a currently valid OMB control number.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to David Bottom, Director/Chief Information Officer, Securities and Exchange Commission, C/O John R. Pezzullo, 100 F Street NE, Washington, DC 20549; or send an email to: PRA_Mailbox@sec.gov.

Dated: February 2, 2022.
J. Matthew DeLesDernier,
Assistant Secretary.

[FR Doc. 2022-02502 Filed 2-4-22; 8:45 am]

BILLING CODE 8011-01-P